Title 3—

The President

Proclamation 10619 of September 8, 2023

National Hispanic-Serving Institutions Week, 2023

By the President of the United States of America

A Proclamation

Education beyond high school should be a ticket to the middle class—and across our Nation, more than 500 Hispanic-Serving Institutions have helped to make that promise real, opening the doors of opportunity a bit wider for generations of Hispanic college students. During National Hispanic-Serving Institutions Week, we celebrate their important work.

Today's students are part of the most talented, resilient, and diverse generation in our history. But while creativity and work ethic are abundant, not everyone has an equal shot yet. That is why Hispanic-Serving Institutions are so essential. Two-thirds of all Hispanic college students in America attend one; they provide a quality education and empower underserved students—including Dreamers and first-generation college students—to earn degrees and build better lives for their families. And with the Supreme Court's recent decision to effectively end affirmative action, their work is as critical as ever.

My Administration is committed to strengthening these vital institutions and supporting their students through graduation and beyond. The American Rescue Plan invested $11 billion in Hispanic-Serving Institutions—the largest investment in Hispanic college students in our Nation's history. And through our White House Initiative on Advancing Educational Equity, Excellence, and Economic Opportunity for Hispanics, we are working together to support Hispanic and Latino college students and invest in the future of Hispanic and Latino communities.

We have also increased Pell Grants for low-income families by the largest amount in over a decade, easing the overwhelming cost of college for about half of all Hispanic undergraduates. We fixed the Public Service Loan Forgiveness program so borrowers who become teachers, police officers, social workers, military service members and other public servants get the debt relief they are entitled to under the law. We are reducing the amount that student loan borrowers have to repay on their undergraduate loans to 5 percent of their discretionary income each month, down from 10 percent—the most generous repayment program ever. That is going to save the typical borrower around $1,000 a year. And last year, I introduced the most ambitious student debt relief plan ever, which was on the verge of helping more than 40 million Americans. When the Supreme Court wrongly struck down that plan, we moved immediately to open an alternative path to relief that could further reduce costs for many Hispanic borrowers. No administration has fought harder for student debt relief than mine—and we are not done yet.

This week, I am thinking about Julieta García, the first Hispanic woman in history to serve as president of an American college. Last year, I had the honor of giving her the Presidential Medal of Freedom for her work building a culture of excellence, affirmation, and curiosity for generations of students. Reflecting on her career, she once said, “My job was always to thrust open the doors of opportunity.” That is what Hispanic-Serving Institutions do—and that is what America is all about: widening the aperture of opportunity for everyone.

NOW, THEREFORE, I, JOSEPH R. BIDEN JR., President of the United States of America, by virtue of the authority vested in me by the Constitution and the laws of the United States, do hereby proclaim September 10 through September 16, 2023, as National Hispanic-Serving Institutions Week. I call on public officials, educators, and all the people of the United States to observe this week with appropriate programs, ceremonies, and activities that acknowledge the many ways these institutions and their graduates contribute to our country.

IN WITNESS WHEREOF, I have hereunto set my hand this eighth day of September, in the year of our Lord two thousand twenty-three, and of the Independence of the United States of America the two hundred and forty-eighth.

[FR Doc. 2023-19921

Filed 9-12-23; 8:45 am]

Billing code 3395-F3-P